DEPARTMENT OF ENERGY

Federal Energy Regulatory Commission

[Docket No. CP18-103-000]

Rockies Express Pipeline LLC; Notice of Extension of Time Request

Take notice that on June 23, 2021, Rockies Express Pipeline LLC (Rockies Express) requested that the Federal Energy Regulatory Commission (Commission) grant an extension of time, until September 20, 2023, to complete the construction of six new 5,350 horsepower (hp) natural gas reciprocating compressor units (32,100 hp total) at its existing Cheyenne Compressor Station (Cheyenne Hub Enhancement Project) in Weld County, Colorado, as authorized as part of the Cheyenne Hub Enhancement Project in the September 20, 2019 Order Issuing Certificates ¹ (September 20 Order). The September 20 Order required Rockies Express to complete construction and make the facilities available for service within two years of the Order date. Rockies Express has since completed construction of four of the six authorized compressor units, placing units 1-3 into service on July 26, 2020,² and unit 4 into service on December 17, 2020.³ Compressor units 5 and 6 remain unconstructed.

¹ Cheyenne Connector, LLC, 168 FERC ¶ 61,180 (2019), order amending certificate, 171 FERC ¶ 61,055 (2020). In the Order the Commission also approved the Cheyenne Connector Pipeline Project in Docket No. CP18-102-000.

² Notice of Commencement of Service of Rockies Express Pipeline LLC, Docket No. CP18-103-000 (July 13, 2020).

³ Notice of Commencement of Service of Rockies Express Pipeline LLC, Docket No. CP18-103-000 (December 17, 2020).

Rockies Express states it has been delayed in reaching full commercialization for compressor units 5 and 6, with the economic slowdown and fallout from the COVID-19 pandemic. The final two compressor units that have not yet been constructed will be installed at the existing Cheyenne Compressor Station on land already owned by Rockies Express under the terms and conditions of the existing certificate. Rockies Express states that the extension of time will not result in any environmental impacts not already examined on the record in the certificate proceeding and will provide Rockies Express with the time necessary to install these remaining two units.

This notice establishes a 15-calendar day intervention and comment period deadline. Any person wishing to comment on Rockies Express' request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁴

⁴ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance.⁵ For those extension requests that are contested, the Commission will aim to issue an order acting on the request within 45 days.⁶ The Commission will address all arguments relating to whether the applicant has demonstrated there is good cause to grant the extension.⁷ The Commission will not consider arguments that re-litigate the issuance of the certificate order, including whether the Commission properly found the project to be in the public convenience and necessity and whether the Commission's environmental analysis for the certificate complied with the National Environmental Policy Act.⁸ At the time a pipeline requests an extension of time, orders on certificates of public convenience and necessity are final and the Commission will not re-litigate their issuance.⁹ The OEP Director, or his or her designee, will act on all of those extension requests that are uncontested.

⁵ Contested proceedings are those where an intervenor disputes any material issue of the filing. 18 CFR 385.2201(c)(1) (2019).

⁶ Algonquin Gas Transmission, LLC, 170 FERC ¶ 61,144, at P 40 (2020).

⁷ Id. at P 40.

⁸ Similarly, the Commission will not re-litigate the issuance of an NGA section 3 authorization, including whether a proposed project is not inconsistent with the public interest and whether the Commission's environmental analysis for the permit order complied with NEPA.

⁹ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on July 22, 2021.

Dated: July 7, 2021.
Kimberly D. Bose,
Secretary.

[FR Doc. 2021-14848 Filed 7-12-21; 8:45 am]

BILLING CODE 6717-01-P